DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 3, 2006.

Interested persons are invited to submit written comments regarding the subject matter of the investigations to the Director, Division of Trade Adjustment Assistance, at the address shown below, not later than January 3, 2006.

The petitions filed in this case are available for inspection at the Office of the Director, Division of Trade Adjustment Assistance, Employment and Training Administration, U.S. Department of Labor, Room C-5311, 200 Constitution Avenue, NW., Washington, DC 20210.

Signed at Washington, DC, this 14th day of December 2005.
Erica R. Cantor,
Director, Division of Trade Adjustment Assistance.

Appendix
[TAA petitions instituted between 11/28/05 and 12/2/05]
TA-W | Subject firm (petitioners) | Location | Date of institution | Date of petition
58411 | Phibro-Tech, Inc. (Comp) | Sumter, SC | 11/28/05 | 11/22/05
58412 | F. Schumacher and Company (State) | Newark, DE | 11/28/05 | 11/28/05
58413 | Badger Paper Flexible Package (Wkrs) | Oconton Falls, WI | 11/28/05 | 11/18/05
58414 | Quantum Corporation (Comp) | Colorado Springs, CO | 11/29/05 | 11/22/05
58415 | El Paso Garment Contractors, Inc. (Comp) | El Paso, TX | 11/29/05 | 11/28/05
58416 | Gold Toe Brands, Inc. (Comp) | Burlington, NC | 11/29/05 | 11/23/05
58417 | MacLean-ESNA (State) | Pocahontas, AR | 11/29/05 | 11/22/05
58418 | Nichols Stone Company (Comp) | Rural Hall, NC | 11/30/05 | 11/23/05
58419 | Dean Company (The) (Comp) | Princeton, WV | 11/30/05 | 11/29/05
58420 | Stoneridge Alphabet Division (Comp) | Orwell, OH | 11/30/05 | 11/29/05
58421 | Sony Electronics (Wkrs) | Mt. Pleasant, PA | 11/30/05 | 11/29/05
58422 | Western Forge (Comp) | Murphy, NC | 11/30/05 | 11/29/05
58423 | Unifi, Inc. (Comp) | Mayodan, NC | 11/30/05 | 11/29/05
58424 | Quality Manufacturing, Inc. (Comp) | Winchester, KY | 11/30/05 | 11/22/05
58425 | Carolina Mills, Inc. (Comp) | Maiden, NC | 11/30/05 | 11/30/05
58426 | Laird Technologies (State) | Schaumburg, IL | 11/30/05 | 11/17/05
58427 | Pure-Flo Precision (IBT) | Springfield, MO | 11/30/05 | 11/21/05
58428 | Apple Computer, Inc. (Wkrs) | Cupertine, CA | 11/30/05 | 11/22/05
58429 | Agilent Technologies, Inc. (Wkrs) | Colorado Springs, CO | 11/30/05 | 11/09/05
58430 | Ford Motor Company (Wkrs) | Mt. Laurel, NJ | 11/30/05 | 11/21/05
58431 | Clarion Sintered Metals (Comp) | Ridgway, PA | 11/30/05 | 11/30/05
58432 | R.J. Reynolds Tobacco Company (Comp) | Macon, GA | 11/30/05 | 11/30/05
58433 | Consolidated Metco, Inc. (State) | Portland, OR | 11/30/05 | 11/22/05
58434 | Burlen Corporation (State) | Tifton, GA | 11/30/05 | 11/23/05
58435 | Paxar Americas (IAMAW) | Sayre, PA | 12/01/05 | 11/22/05
58436 | Occidental Chemical Corp. (State) | LaPorte, TX | 12/01/05 | 11/28/05
58437 | Pall Medical (MEDSEP) (State) | Covina, CA | 12/01/05 | 11/30/05
58438 | Palliser Furniture Corp. (Comp) | Troutman, NC | 12/01/05 | 11/30/05
58439 | Hart and Cooley—Milcor (IBSORI) | Lima, OH | 12/01/05 | 11/20/05
58440 | American Apparel Corporation (State) | Knoxville, TN | 12/01/05 | 11/30/05
58441 | Caldwell Manufacturing Company (Comp) | Jackson, MS | 12/01/05 | 11/22/05
58442 | Weyerhaeuser (IAM) | Aberdeen, WA | 12/01/05 | 11/21/05
58443 | Amorim Industrial Solutions, Inc. (Comp) | Trevor, WI | 12/01/05 | 11/23/05
58444 | Johnson Controls, Inc. (UAW) | Earth City, MO | 12/01/05 | 11/21/05
58445 | Christiana Floral, Inc. (Comp) | Christiana, PA | 12/02/05 | 12/01/05
58446 | Boise, LLC (Wkrs) | Cascade, ID | 12/02/05 | 11/18/05
58447 | May and Scofield, LLC (Comp) | Madison, SD | 12/02/05 | 12/01/05
58448 | Exopack, LLC (State) | Monticello, AR | 12/02/05 | 12/01/05
58449 | Mississippi Polymers, Inc. (Wkrs) | Corinth, MS | 12/02/05 | 11/30/05
58450 | Bay Engineered Castings (Wkrs) | DePere, WI | 12/02/05 | 11/30/05
58451 | Textron Fastening Systems (TFS) (Comp) | Greenville, MS | 12/02/05 | 11/10/05
58452 | Ishikawa Gasket America, Inc. (Wkrs) | Bowling Green, OH | 12/02/05 | 12/02/05

[FR Doc. E5-7609 Filed 12-20-05; 8:45 am]

BILLING CODE 4510-30-P